DEPARTMENT OF TRANSPORTATION

Federal Highway Administration

Environmental Impact Statement: Forsyth County, NC

AGENCY: Federal Highway Administration (FHWA), DOT.

ACTION: Revised notice of intent.

SUMMARY: The FHWA is issuing this notice to advise the public that a draft environmental impact statement will be prepared for the consolidated Winston-Salem Northern Beltway proposed highway projects in Forsyth County, North Carolina.

FOR FURTHER INFORMATION CONTACT: Ms. Emily Lawton, Operations Engineer, Federal Highway Administration, 310 New Bern Avenue, Suite 410, Raleigh, North Carolina 27601, Telephone: (919) 856-4350.

SUPPLEMENTARY INFORMATION: The FHWA, in cooperation with the North Carolina Department of Transportation (NCDOT), will prepare a draft environmental impact statement (EIS) on the consolidated Northern Beltway proposed highway projects (Western Section, Eastern Section, and Eastern Section Extension) of Winston-Salem in Forsyth County. The proposed action would be the construction of a multi-lane divided, controlled access highway on new location from US 158 southwest of Winston-Salem to US 311 southeast of Winston-Salem. A Final Environmental Impact Statement on the Western Section, the portion from US 158 southwest of Winston-Salem to US 52 northwest of Winston-Salem (FHWA-NC-EIS-92-06-F), was approved by FHWA on 14 March 1996. The Western Section will improve north-south connectivity in western Forsyth County, provide improved direct regional connections to other major highways, and relieve congestion on roadways in western Forsyth County. A Draft Environmental Impact Statement on the Eastern Section, the portion of the facility from US 52 northwest of Winston-Salem to US 421 east of Winston-Salem (FHWA-NC-EIS-95-04-D), was approved by FHWA on 14 September 1995. The Eastern Section together with the Eastern Section Extension will serve regional traffic by improving system linkage and continuity, relieving congestion on major highways including US 52 and US 421, and by providing the route for future I-74. The proposed action is a part of the 1987 Winston-Salem/Forsyth County Thoroughfare Plan. In addition, the projects together will provide a northern loop highway in accordance with the 1989 North Carolina Highway Trust Fund Act.

Alternatives under consideration include: (1) The “no-build”, (2) improving existing facilities, (3) transportation demand management and transportation system management alternatives; (4) mass transit alternatives; and (5) a controlled access highway on new location.

Letters describing the proposed action and soliciting comments will be sent to appropriate Federal, State, and local agencies. A public meeting and meetings with local officials and neighborhood groups will be held in the study area. A public hearing will also be held. Information on the time and place of the public hearing will be provided in the local news media. The supplemental draft EIS will be available for public and agency review and comment at the time of the hearing. No formal scoping meeting is planned at this time.

To ensure that the full range of issues related to the proposed action are addressed and all significant issues are identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program.)
Issued on: March 3, 2004.
Emily Lawton,
Operations Engineer, Raleigh, North Carolina.

[FR Doc. 04-5964 Filed 3-16-04; 8:45 am]

BILLING CODE 4910-22-M